DEPARTMENT OF HEALTH AND HUMAN SERVICES

National Institutes of Health

Center for Scientific Review Amended; Notice of Meeting

Notice is hereby given of a change in the meeting of the Center for Scientific Review Special Emphasis Panel, March 20, 2019, 02:00 p.m. to March 20, 2019, 03:00 p.m., National Institutes of Health, 6701 Rockledge Drive, Bethesda, MD, 20892 which was published in the Federal Register on March 1, 2019, 84 FR 7087.

The start date is April 17, 2019 instead of March 20, 2019. The meeting location remains the same. The meeting is closed to the public.

Dated: March 22, 2019.
Natasha M. Copeland,
Program Analyst, Office of Federal Advisory Committee Policy.

[FR Doc. 2019-05960 Filed 3-27-19; 8:45 am]

BILLING CODE 4140-01-P